DEPARTMENT OF DEFENSE

Department of the Army

Programmatic Environmental Assessment for Real Property Master Plans on U.S. Army Installation Management Command Garrisons

AGENCY: Department of the Army, DoD.

ACTION: Notice of Availability.

SUMMARY: The U.S. Army Installation Management Command (IMCOM) has completed a Programmatic Environmental Assessment (PEA) analyzing the impacts of developing, adopting, implementing, and updating Real Property Management Plans (RPMPs) and their component documents using a standardized process in accordance with Department of Defense (DoD) and Army guidance, and encouraging community partner participation in this process. The Army is making the PEA and a draft Finding of No Significant Impact (FONSI) available for public comment. The PEA identifies no significant environmental impacts from implementing the Proposed Action. The draft FONSI concludes that preparing an environmental impact statement is not required and, therefore, one will not be prepared.

DATES: The public comment period will end 30 days after publication of the Notice of Availability in the Federal Register by the Department of the Army.

ADDRESSES: Written comments should be sent by mail to U.S. Army Environmental Command, ATTN: Public Comments, 2450 Connell Road (Build 2264), Joint Base San Antonio-Fort Sam Houston, TX 78234-7664; or by email to usarmy.jbsa.aec.nepa@mail.mil.

FOR FURTHER INFORMATION CONTACT: U.S. Army Environmental Command Public Affairs Office at (210) 466-1590 or toll-free at (855) 846-3940, or at usarmy.jbsa.aec.nepa@mail.mil.

SUPPLEMENTARY INFORMATION: The Army has prepared this PEA in accordance with the National Environmental Policy Act of 1969 (NEPA) (Title 42 of the United States Code Section 4321); Council on Environmental Quality (CEQ) NEPA regulations (Title 40 of the Code of Federal Regulations [CFR] Parts 1500-1508); and the Army's NEPA implementing regulation, Environmental Analysis of Army Actions (32 CFR part 651).

The purpose of the Proposed Action is for IMCOM garrisons to plan for and manage their real property assets comprehensively to permit installation expansion, reduction, and changes in mission sustainably over a 20-year planning horizon. The Proposed Action is needed to provide a standard process to guide sustainable and energy-efficient development across IMCOM installations that supports mission requirements. It is also needed to provide a continuous analytical process to evaluate factors affecting the present and future physical development and operation of installations. Standardizing the process of developing RPMPs and component documents at IMCOM garrisons is expected to result in each garrison producing a more thoughtful and deliberative plan that contains comparable categories of information and is similarly organized across all installations.

The PEA will serve to integrate the NEPA process more efficiently into the master planning process, avoid unnecessary duplicative NEPA analyses, better inform decision makers, and encourage active public involvement.

The RPMP serves as a garrison's road map for short- and long-term investment, management and development of its real property assets, including land, facilities, and infrastructure. It provides guidelines for sustainable installation development, regulates project siting, and ensures sustainable and orderly development that supports the installation's mission.

When considering implementing an individual proposed action, IMCOM garrisons would complete the Environmental Checklist in the PEA to determine whether tiering from the PEA and FONSI would be appropriate and what type of additional site-specific NEPA documentation, if any, would be required. If a garrison determines that a specific installation RPMP, RPMP component document, or project requires additional NEPA analysis tiered from the PEA, the garrison would be required to complete the appropriate NEPA documentation before making any irreversible and irretrievable commitments of resources related to that action. Tiering from the PEA, when appropriate, would avoid or reduce the costs of repetitive, similar analyses and enable IMCOM to focus resources on only those site-specific environmental issues that require deeper analyses.

Members of the public, federally recognized Native American tribes, and federal, state, and local agencies are invited to submit written comments on the PEA and/or draft FONSI.

The PEA and draft FONSI can be accessed on the U.S. Army Environmental Command's NEPA Documents page at https://aec.army.mil/index.php?cID=352.

Brenda S. Bowen,
Army Federal Register Liaison Officer.

[FR Doc. 2020-08737 Filed 4-23-20; 8:45 am]

BILLING CODE 5061-AP-P